DEPARTMENT OF TRANSPORTATION

Federal Aviation Administration

Thirteenth Meeting: RTCA Special Committee 224, Airport Security Access Control Systems.

AGENCY: Federal Aviation Administration (FAA), U.S. Department of Transportation (DOT).

ACTION: Meeting Notice of RTCA Special Committee 224, Airport Security Access Control Systems.

SUMMARY: The FAA is issuing this notice to advise the public of the thirteenth meeting of RTCA Special Committee 224, Airport Security Access Control Systems

DATES: The meeting will be held May 30, 2012, from 10:00 a.m.-4:00 p.m.

ADDRESSES: The meeting will be held at RTCA, Inc., 1150 18th Street NW., Suite 910, Washington, DC 20036.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 203. The agenda will include the following:

May 30, 2012

• Welcome/Introductions/Administrative Remarks

• Review/Approve Summary—Twelfth Meeting

• Updates from the TSA (as required)

• Workgroup Reports

• Industry Solicitation Progress Report

• Time and Place of Next Meeting

• Any Other Business

• Adjourn

• Other Business

• Date, Place, and Time for Plenary Twenty-Two

• Plenary Adjourns

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 24, 2012.
John Raper,
Manager, Business Operations Branch, Federal Aviation Administration.

[FR Doc. 2012-10363 Filed 4-27-12; 8:45 am]

BILLING CODE 4910-13-P